NUCLEAR REGULATORY COMMISSION

[Docket No. 50-146]

GPU Nuclear Corp., Saxton Nuclear Experimental Facility; Notice of Receipt, Availability for Comment, and Meeting To Discuss License Termination Plan

The Nuclear Regulatory Commission (NRC) is in receipt of and is making available for public inspection and comment the License Termination Plan (LTP) for the Saxton Nuclear Experimental Facility (SNEF) located in Saxton, Bedford County, Pennsylvania.

Reactor operations at the SNEF were ended in May 1972. The reactor was defueled and all fuel was removed from the site in 1972. In accordance with NRC regulations in effect at that time, the Saxton Nuclear Experimental Corporation (SNEC) submitted a decommissioning plan for the SNEF to the NRC in February 1996 (GPU Nuclear Corporation (GPUN) became a co-licensee for the SNEF on May 10, 1996). When proposed amendments to the NRC's decommissioning regulations were published in the Federal Register on July 29, 1996 (61 FR 39278), the licensee requested that the review of the decommissioning plan be suspended. When the amended regulations became effective on August 28, 1996, the submitted decommissioning plan, as supplemented, became the SNEF Post Shutdown Decommissioning Activities Report (PSDAR) pursuant to 10 CFR 50.82 as amended. A public meeting was held in Saxton, Pennsylvania on January 28, 1997, to provide information and gather pubic comment on the PSDAR. Because of restrictions in the license for the SNEF, a license amendment was needed before decommissioning activities could commence. License Amendment No. 15 to Amended Facility License No. DPR-4 approving decommissioning was issued on April 20, 1998. The facility is undergoing active decontamination and dismantlement.

In accordance with 10 CFR 50.82(a)(9), all power reactor licensees must submit an application for termination of their license. The application for termination of license must be accompanied or preceded by an LTP to be submitted for NRC approval. If found acceptable by the NRC staff, the LTP is approved by license amendment, subject to such conditions and limitations as the NRC staff deems appropriate and necessary. SNEC and GPUN (the licensees) submitted the proposed LTP for the SNEF by application dated February 2, 2000. In accordance with 10 CFR 20.1405 and 10 CFR 50.82(a)(9)(iii), the NRC is providing notice to individuals in the vicinity of the site that the NRC is in receipt of the SNEF LTP, and will accept comments from affected parties. In accordance with 10 CFR 50.82(a)(9)(iii), the NRC is also providing notice that the NRC staff will conduct a meeting to discuss the SNEC LTP on Thursday, May 25, 2000, at 7:00 p.m. at the Saxton Fire Hall located at 8th and Norris Street, Saxton, Pennsylvania 16678.

The SNEF LTP and associated environmental report are available for public inspection at the Commission's Public Document Room, the Gelman Building, at 2120 L Street NW., Washington, DC 20037. They are also available through http://www.nrc.gov/OPA/reports under “What's New on This Page,” “Decommissioning,” or “Other Documents.”

Dated at Rockville, Maryland, this 2nd day of May 2000.
For the Nuclear Regulatory Commission.
Ledyard B. Marsh,
Chief, Events Assessment, Generic Communications and Non-Power Reactors Branch, Division of Regulatory Improvement Programs, Office of Nuclear Reactor Regulation.

[FR Doc. 00-12128 Filed 5-12-00; 8:45 am]

BILLING CODE 7590-01-P